DEPARTMENT OF TRANSPORTATION

Pipeline and Hazardous Materials Safety Administration

49 CFR Parts 171 and 173

[Docket No. PHMSA-2011-0143 (HM-253)]

RIN 2137-AE81

Hazardous Materials: Reverse Logistics (RRR).

AGENCY: Pipeline and Hazardous Materials Safety Administration (PHMSA), DOT.

ACTION: Notice of proposed rulemaking. Extension of comment period.

SUMMARY: PHMSA is notifying the public of its intent to extend the comment period by thirty days for a notice of proposed rulemaking entitled “Hazardous Materials: Reverse Logistics” under Docket Number PHMSA-2011-0143 (HM-253) published in the Federal Register on August 11, 2014.

DATES: The comment period for the NPRM published August 11, 2014, at 79 FR 46748, is extended from October 10, 2014, until November 10, 2014. To the extent possible, PHMSA will consider late-filed comments.

ADDRESSES: You may submit comments identified by the Docket Number (PHMSA-2011-0143; HM-253) by any of the following methods:

• Federal eRulemaking Portal: Go to http://www.regulations.gov. Follow the online instructions for submitting comments.

• Fax: 1-202-493-2251.

• Mail: Docket Operations, U.S. Department of Transportation, West Building, Ground Floor, Room W12-140, Routing Symbol M-30, 1200 New Jersey Avenue SE., Washington, DC 20590.

• Hand Delivery: To Docket Operations, Room W12-140 on the ground floor of the West Building, 1200 New Jersey Avenue SE., Washington, DC 20590, between 9 a.m. and 5 p.m., Monday through Friday, except Federal Holidays.

Instructions: All submissions must include the agency name and docket number for this notice at the beginning of the comment. Note that all comments received will be posted without change to the docket management system, including any personal information provided.

Docket: For access to the dockets to read background documents or comments received, go to http://www.regulations.gov, or DOT's Docket Operations Office (see ADDRESSES).

Privacy Act: Anyone is able to search the electronic form of any written communications and comments received into any of our dockets by the name of the individual submitting the document (or signing the document, if submitted on behalf of an association, business, labor union, etc.). You may review DOT's complete Privacy Act Statement in the Federal Register published on April 11, 2000 (Volume 65, Number 70; Pages 19477-78) or you may visit http://www.dot.gov/privacy.

FOR FURTHER INFORMATION CONTACT: Steven Andrews, Hazardous Materials Standards and Rulemaking Division, (202) 366-8553, Office of Hazardous Materials Safety, Pipeline and Hazardous Materials Safety Administration, 1200 New Jersey Avenue SE., Washington, DC 20590.

SUPPLEMENTARY INFORMATION:

I. Background

On August 11, 2014, the Pipeline and Hazardous Materials Safety Administration (PHMSA) published a notice of proposed rulemaking [79 FR 46748] seeking comments on our proposal to revise the Hazardous Materials Regulations (HMR; 49 CFR Parts 171-180) applicable to return shipments of certain hazardous materials by motor vehicle. PHSMA proposed to establish a new section in the regulations to provide an exception for materials that are transported in a manner that meets the definition of “reverse logistics.” In this NPRM, PHMSA also proposed to clearly identify the hazardous materials authorized, and the packaging, hazard communication, and training requirements applicable to reverse logistics shipments. In addition, this rulemaking also proposed to expand an existing exception for reverse logistics shipments of used automobile batteries that are being shipped from a retail facility to a recycling center.

II. Extension of Comment Period

PHMSA received a request to extend the comment period by thirty days from the American Trucking Association (ATA). ATA is conducting its annual meeting in early October 2014, and will require more time to adequately respond with an official comment. ATA is requesting this extension in order to have sufficient time to fully evaluate the impacts of the proposed requirements associated with the proposals in the NPRM. An extension of the comment period will provide ATA and its members the opportunity to compile valuable and comprehensive comments.

Due to PHMSA's desire to collect meaningful input from affected stakeholders, PHMSA is granting the ATA's request to extend the comment period to ensure ATA and other stakeholders have sufficient time to review the proposals in the NPRM. PHMSA is confident the 30-day extension will allow stakeholders sufficient time to conduct a more thorough review.

Issued in Washington, DC, on September 19, 2014, under authority delegated in 49 CFR 1.97(b).
William S. Schoonover,
Deputy Associate Administrator, Pipeline and Hazardous Materials Safety Administration.

[FR Doc. 2014-22759 Filed 9-24-14; 8:45 am]

BILLING CODE 4910-60-P